POSTAL REGULATORY COMMISSION

[Docket No. MC2010-25; Order No. 483]

Postal Classification Change

AGENCY: Postal Regulatory Commission.

ACTION: Notice.

SUMMARY: The Commission is noticing a recently-filed Postal Service request concerning two classification changes to Address Management Services. This notice addresses procedural steps associated with these filings.

DATES: Comments are due: July 13, 2010.

ADDRESSES: Submit comments electronically via the Commission's Filing Online system at http://www.prc.gov. Commenters who cannot submit their views electronically should contact the person identified in the FOR FURTHER INFORMATION CONTACT section by telephone for advice on alternatives to electronic filing.

FOR FURTHER INFORMATION CONTACT: Stephen L. Sharfman, General Counsel, stephen.sharfman@prc.gov. or 202-789-6820.

SUPPLEMENTARY INFORMATION: On July 2, 2010, the Postal Service filed a notice pursuant to 39 CFR 3020.90 and 3020.91 concerning two classification changes to Address Management Services.¹

¹ Notice of the United States Postal Service of Classification Changes Related to Address Management Services, July 2, 2010 (Notice).

The first change removes “Delivery Type” service from the list of services included within Address Management Services. The Postal Service states that this service is limited, outdated, not widely used, and the information obtained through this service may be obtained through other services. Id. at 1.

Rule 3020.91 requires that the Postal Service file a notice of proposed change no later than 15 days prior to the effective date of the change. The Postal Service intends to offer Delivery Type service subscriptions through September 30, 2010, and honor subscriptions until they expire. Id.

The second change removes the specifications as to how information is provided to customers for CRIS Route, City State, Delivery Statistics, eLOT, 5-Digit ZIP, Official National Zone Charge, Z4 Change, ZIP+4, ZIP Move, AMS API, and TIGER ZIP+4 services. Currently, CD-ROM, DVD, and disc are specified. Id. at 2. The Postal Service states that removing the specifications will allow it to provide information by any appropriate means. Id.

The Commission establishes Docket No. MC2010-25 for consideration of matters related to the Address Management Services classification changes identified in the Postal Service's Notice.

Interested persons may submit comments on the changes proposed within the Postal Service's Notice. Comments are due no later than July 13, 2010. The Postal Service's Request can be accessed via the Commission's Web site (http://www.prc.gov). Proposed edits to the draft Mail Classification Schedule are attached to the Postal Service's Notice.

The Commission appoints Emmett Rand Costich to serve as Public Representative in the captioned proceedings.

It is ordered:

1. The Commission establishes Docket No. MC2010-25 for consideration of matters raised by the Postal Service's Notice.

2. Comments by interested persons in these proceedings are due no later than July 13, 2010.

3. Pursuant to 39 U.S.C. 505, Emmett Rand Costich is appointed to serve as the officer of the Commission (Public Representative) to represent the interests of the general public in these proceedings.

4. The Secretary shall arrange for publication of this order in the Federal Register.

By the Commission.
Shoshana M. Grove,
Secretary.

[FR Doc. 2010-16868 Filed 7-9-10; 8:45 am]

BILLING CODE 7710-FW-S